DEPARTMENT OF THE TREASURY

Internal Revenue Service

26 CFR Part 1

[REG-106879-00]

RIN 1545-AY27

Dual Consolidated Loss Recapture Events; Hearing Cancellation

AGENCY: Internal Revenue Service (IRS), Treasury.

ACTION: Cancellation of notice of public hearing on proposed rulemaking.

SUMMARY: This document cancels a public hearing on proposed regulations under section 1503(d) regarding the events that require the recapture of dual consolidated losses.

DATES: The public hearing originally scheduled for December 3, 2002, at 10 a.m., is canceled.

FOR FURTHER INFORMATION CONTACT: Sonya M. Cruse of the Regulations Unit, Associate Chief Counsel (Income Tax and Accounting), at (202) 622-7180 (not a toll-free number).

SUPPLEMENTARY INFORMATION:

A notice of proposed rulemaking and notice or public hearing that appeared in the Federal Register on Thursday, August 1, 2002, (67 FR 49892), announced that a public hearing was scheduled for December 3, 2002 at 10 a.m., in room 4718, Internal Revenue Service Building, 1111 Constitution Avenue, NW., Washington, DC. The subject of the public hearing is proposed regulations under section 1503(d) of the Internal Revenue Code. The public comment period for these proposed regulations expired on November 12, 2002. The notice of proposed rulemaking and notice of public hearing instructed those interested in testifying at the public hearing to submit a request to speak and an outline of the topics to be addressed. As of Tuesday, November 19, 2002, no one has requested to speak. Therefore, the public hearing scheduled for December 3, 2002, is canceled.

Cynthia E. Grigsby,
Chief, Regulations Unit, Associate Chief Counsel, (Income Tax and Accounting).

[FR Doc. 02-29994 Filed 11-25-02; 8:45 am]

BILLING CODE 4830-01-P